DEPARTMENT OF HEALTH AND HUMAN SERVICES

Centers for Disease Control and Prevention

[30Day-19-19BBV]

Agency Forms Undergoing Paperwork Reduction Act Review

In accordance with the Paperwork Reduction Act of 1995, the Centers for Disease Control and Prevention (CDC) has submitted the information collection request “Online training for law enforcement to reduce risks associated with shift work and long work hours” to the Office of Management and Budget (OMB) for review and approval. CDC previously published a “Proposed Data Collection Submitted for Public Comment and Recommendations” notice on December 10, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Online training for law enforcement to reduce risks associated with shift work and long work hours—NEW—National Institute for Occupational Safety and Health (NIOSH), Centers for Disease Control and Prevention (CDC).

Background and Brief Description

Law enforcement officers work in stressful and dangerous conditions to enforce law and order, prevent crime, and protect persons and property. Police often work during the evening, at night, and sometimes irregular and long hours. Shift work and long work hours are linked to many health and safety risks due to disturbances to sleep, circadian rhythms, and personal relationships. These work schedules and inadequate sleep are likely critical contributors to the many health problems seen in police: Shorter life spans, high occupational injury rates, and burden of chronic illnesses. One important strategy to reduce these risks is training programs to inform employers and law enforcement officers about the risks and strategies to reduce the risks. This is a new Information Collection Request for one year of data collection. The National Institute for Occupational Safety and Health is authorized to carry out this data collection through Occupational Safety and Health Act of 1970.

The purpose of this project is to develop a training program to relay the risks linked to shift work and long work hours and give workplace strategies for employers and personal strategies for the officers to reduce the risks. Once finalized, the training will be available on the NIOSH website. The training will be pilot tested with 30 recent graduates of a police academy in their first field experience and 30 experienced officers. Study staff will recruit 60 law enforcement officers during a 30-minute phone call. All will work full time on fixed night shifts. The pilot test will use a pretest/posttest design to examine sleep (both duration and quality), worktime sleepiness, and knowledge retained. Pre-test measures will be collected two weeks before the training. Post-test measures will be collected the week of the training, one week after the training and at weeks 11 and 12 of the study. Additional post-test measures will include feedback about the training and if specific behaviors changed.

Before starting the pretest, the respondent will sign an informed consent form. The pilot pre-test will start with the respondent filling out a 10 minute online survey that includes four short surveys: (1) Demographic information and work experience; (2) the Epworth Sleepiness Scale; (3) the Pittsburgh Sleep Quality Index; and (4) a knowledge test. The respondent will be fitted with a wrist actigraph, which will record activity and estimate the times of sleep. The respondents will keep an online sleep activity diary and wear the actigraph continuously during weeks one to four of the study. The online sleep activity diary takes approximately two minutes a day to complete. The sleep diary and actigraph are being used together to obtain a more accurate timing of respondent's sleep and activity.

During the third week of the study, the respondent will take the 2.5 hour online training program. Immediately after completing the training, the respondent will take the post-test knowledge test and will provide feedback about the training including barriers to using the training information and what influential people in their life would want them to do with the training information. At the end of week four, the respondent will return the actigraph. No data collection will occur during weeks five to 10 of the study.

The second post-test period will be weeks 11 and 12 of the study to gather longer-term outcomes. At the beginning of week 11, the respondents will be fitted with an actigraph. The respondent will wear the actigraph and complete the sleep activity diary for the next 14 days. At the end of week 12 of the study, respondent will complete the Epworth Sleepiness Scale, Pittsburgh Sleep Quality Index, and Changes in Behaviors questionnaires. The combined response time is five minutes. The respondent will return the actigraph and study ends.

The burden table lists three 10-minute meetings during the post-test period when they will return the actigraph at the end of week four, be fitted with an actigraph at the beginning of week 11 and return it at the end of week 12. The respondents will complete the sleep activity diary for 42 days, which will take two minutes each day.

Study staff will use the findings from the pilot test to make improvements to the training program. The research team will reinforce or expand training content that showed less than desired results on the pilot test. Potential impacts of this project include improvements in management practices such as the design of work schedules and improvements in officers' personal behaviors for coping with the demands of shift work and long work hours. The total estimated annualized burden hours is 334. There are no costs to respondents other than their time.

Estimated Annualized Burden Hours
Type of respondents | Form name | Number of respondents | Number of responses per respondent | Average burden per response (in hours)
Law enforcement officers | phone call for recruitment informed consent | 60 | 1 | 30/60
Law enforcement officers | Initial meeting | 60 | 1 | 15/60
Law enforcement officers | Knowledge survey | 60 | 5 | 5/60
Law enforcement officers | Epworth Sleepiness Scale | 60 | 2 | 1/60
Law enforcement officers | Pittsburgh Sleep Quality Index | 60 | 2 | 2/60
Law enforcement officers | Demographics and work experience | 60 | 1 | 2/60
Law enforcement officers | Sleep Activity Diary | 60 | 84 | 2/60
Law enforcement officers | Online training | 60 | 1 | 150/60
Law enforcement officers | Feedback about Training, Barriers, and Influential People | 60 | 1 | 5/60
Law enforcement officers | Changes in Behaviors after Training | 60 | 1 | 2/60
Law enforcement officers | Actigraph fitting and return | 60 | 3 | 10/60

Jeffrey M. Zirger,
Lead, Information Collection Review Office, Office of Scientific Integrity, Office of Science, Centers for Disease Control and Prevention.

[FR Doc. 2019-14680 Filed 7-9-19; 8:45 am]

BILLING CODE 4163-18-P